ENVIRONMENTAL PROTECTION AGENCY

[ER-FRL8592-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 17, 2009 (74 FR 17860).

Draft EISs

EIS No. 20080435, ERP No. D-FHW-E40823-MS, MS-601 Transportation Project, Extension of MS-601 from I-10 Canal Interchange to Connect with US 49, Funding, Harrison and Stone Counties, MS.

Summary: EPA continues to have environmental concerns about aquatic resource impacts. Rating EC2.

EIS No. 20090007, ERP No. D-BLM-K65030-CA, Carrizo Plain National Monument, Draft Resource Management Plan, Implementation, San Luis Obispo County and Portion of western Kern County, CA.

Summary: While EPA has no objection to the proposed action, it did recommend that the action include additional restrictions on grazing to reduce impacts on native plant species. Rating LO.

EIS No. 20090025, ERP No. D-IBR-K65356-CA, Grassland Bypass Project 2010-2019 Project, Proposed new Use Agreement, San Joaquin River, CA.

Summary: EPA expressed environmental concerns about the uncertainty of developing feasible methods of drain water treatment and disposal that can meet selenium objectives and arrest buildup of selenium in groundwater; the need for a comprehensive monitoring program, including biological effects follow-up; and the need for a clear commitment to detailed analysis of sediment treatment, management, and disposal options and their effects. EPA requested information on how this project interacts with, and can be coordinated with, other regional efforts to address drainage issues. Rating EC2.

EIS No. 20090040, ERP No. D-COE-K39041-CA, Natomas Levee Improvement Program Phase 3 Landsides Improvements Project, Issuing of 408 Permission and 404 Permit, Central Valley Flood Control Board, Sutter and Sacramento Counties, CA.

Summary: EPA continues to have environmental concerns about the indirect and cumulative environmental effects. We recommended Natomas Basin flood safety plan implementation prior to additional development, evaluation of the cumulative impacts of the COE “200-year” levee improvement project, and coordination with resource agencies to ensure adverse environmental effects are avoided and minimized. Rating EC2.

EIS No. 20080538, ERP No. DA-NRC-D03004-VA, North Anna Power Station Unit 3, Combined License (COL) application for Construction and Operation a Based-Load Nuclear Power Plant, (NUREG-1917), in the Town of Mineral, Louisa County, VA.

Summary: EPA expressed environmental concerns about thermal discharge impacts. Rating EC1.

EIS No. 20080353, ERP No. DS-AFS-A65162-00, Gypsy Moth Management in the United States: A Cooperative Approach, Proposing New Treatments that were not Available when the 1995 EIS was written, US.

Summary: EPA expressed environmental concerns about impacts to water quality. Rating EC2.

Final EISs

EIS No. 20090059, ERP No. F-NOA-A91075-00, PROGRAMMATIC—Marine Mammal Health and Stranding Response Program (MMHSRP), Day-to-Day Operation on Stranding, Response, Rehabilitation, Release, and Disentanglement Activities.

Summary: EPA has no objection to the proposed action.

EIS No. 20090060, ERP No. F-COE-K80051-CA, University of California (UC) Merced Campus and University Community Project, Development of a Major Research University, To Allow for the Discharge of Fill Material into 76.7 Acres of Wetlands, US Army COE Section 404 Permit, Merced County, CA.

Summary: EPA continues to have environmental concerns about the impacts to wetlands.

EIS No. 20090075, ERP No. F-NPS-K61166-CA, Golden Gate National Recreation Area, Proposed Marin Headlands and Fort Baker Transportation Infrastructure and Management Plan, Implementation, Marin County, CA.

Summary: No formal comment letter was sent to the preparing agency.

EIS No. 20090080, ERP No. F-AFS-J39039-CO, Long Draw Reservoir Project, Re-Issue a Special-Use-Authorization to Water Supply and Storage to Allow the Continued Use of Long Draw Reservoir and Dam, Arapaho and Roosevelt National Forests and Pawnee National Grassland, Grand and Larimer Counties, CO.

Summary: No formal comment letter was sent to the preparing agency.

Dated: April 21, 2009.
Robert W. Hargrove,
Director, NEPA Compliance Division, Office of Federal Activities.

[FR Doc. E9-9444 Filed 4-23-09; 8:45 am]

BILLING CODE 6560-50-P